DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 72 FR 4514, dated January 31, 2007) is amended to reflect the reorganization of Office of Workforce and Career Development, Office of the Director, Centers for Disease Control and Prevention.

Section C-B, Organization and Functions, is hereby amended as follows: Delete in their entirety the functional statements for the Office of Workforce and Career Development (CAL), Office of the Director (CA), Centers for Disease Control and Prevention (C), and insert the following:

Office of Workforce and Career Development (CAL). (1) Develops goals and objectives and provides leadership, policy formation, scientific oversight, and guidance in program planning and development; (2) plans, directs, and manages CDC-wide training programs and internship and fellowship programs; (3) provides consultation, technical assistance, and training on epidemiology, public health informatics, and prevention effectiveness to CDC/ATSDR, States, other agencies, other countries, and domestic and international organizations; (4) develops, designs and implements an accredited comprehensive strategic human resource leadership development and career management program for all occupational series throughout CDC; provides technical assistance in organizational development, career management, employee development, and training; (5) maximizes economies of scale through systematic planning and evaluation of agency-wide training initiatives to assist CDC employees in achieving required competencies; (6) assists in the definition and analysis of training needs of public health workers, and develops and evaluates instructional products designed to meet those needs; (7) works with partners, internally and externally, to develop a strategic vision for the public health workforce; (8) collaborates with CDC partners to develop workforce goals for all of CDC/ATSDR; (9) coordinates the Excellence in Learning Council to coordinate, inform, and share strategic vision for all of CDC's Coordinating Centers/Coordinating Offices (CC/CO); (10) conducts internal succession planning, forecasting services, and environmental scanning to ascertain both current and future public health workforce needs; (11) provides leadership, oversight, and guidance in the management and operations of OWCD's programs; (12) in carrying out the above functions, collaborates, as appropriate, with the CDC Office of the Director (OD), CC/CO)s, domestic and international agencies and organizations; and (13) provides a focus for short- and long-term planning within OWCD.

Office of the Director (CAL1). (1) Provides leadership and overall direction for OWCD; (2) develops goals and objectives, and provides leadership, policy formation, scientific oversight, and guidance in program planning and development; (3) plans, coordinates, and develops research plans for OWCD; (4) provides overall scientific leadership and advice including but not limited to OWCD Institutional Review Board activities; (5) ensures adherence and provides training to OWCD on CDC and HHS science-related policies; (6) oversees and manages OWCD clearance process for scientific and technical documents; (7) uses modeling and forecasting tools for workforce planning and decision making; (8) coordinates all program reviews; (9) reviews, prepares, coordinates, and develops proposed legislation, Congressional testimony, and briefing materials; (10) assists OWCD programs in establishing performance metrics and coordinates quarterly reviews with programs to ascertain status on meeting of the metrics; (11) coordinates OWCD budget formulation/negotiation related to program initiatives and goals management; (12) identifies relevant scanning/benchmarking on workforce and career development processes, services and products; (13) provides leadership and guidance on new developments and national trends for public health workforce; (14) establishes policies governing major learning initiatives and new learning activities, and works collaboratively within OWCD and other components of CDC in planning, developing and implementing policies related to training initiatives, including but not limited to, Individual Learning Accounts, Individual Development Plans, and loan repayment programs; (15) provides a neutral advocate and avenue for employees to raise issues and concerns at CDC and works toward understanding, mediation and resolution of disputes between employees and management utilizing Ombudsman services; (16) develops unified OWCD-wide administrative systems and advocates and supports the commitment of resources to application development; (17) coordinates management information systems and analyses of data for improved utilization of OWCD resources; and (18) directs systems analysis and design, programming, and systems training as it relates to implementation of new and existing administrative, management, and executive information systems.

Business Services Activity (CAL13). (1) Provides leadership, oversight, and guidance in the management and operations of OWCD's programs; (2) plans, coordinates, and provides administrative management support, advice, and guidance to OWCD, involving the areas of fiscal management, personnel, travel, and other administrative services; (3) coordinates the development of the OWCD annual budget request; (4) conducts management analyses of OWCD programs and staff to ensure optimal utilization of resources and accomplishment of program objectives; (5) plans, allocates, and monitors OWCD resources; (6) maintains liaison and collaborates with other CDC components and external organizations in support of OWCD management and operations; (7) works closely with other Federal agencies involved with OWCD interagency agreements; (8) coordinates OWCD requirements relating to procurement, grants, cooperative agreements, materiel management, and interagency agreements; (9) provides fiscal management and stewardship of grants, contracts, and cooperative agreements; and (10) develops and implements administrative policies, procedures, and operations, as appropriate for OWCD, and prepares special reports and studies, as required, in the administrative management areas.

Career Development Division (CALC). (1) Plans, directs, and manages CDC-wide training and service programs for the teaching and training of public health professionals in applies epidemiology and other public health sciences including preventive medicine, public health informatics, prevention effectiveness, and public health program planning, implementation, and evaluation; (2) plans, directs, and manages CDC-wide training and service programs for fellowships and internships sponsored by other partner organizations and implemented within CDC (CDC Experience, Hubert Fellowship in International Health, Emerging Leaders Program and Presidential Management Fellowship); (3) responds to domestic and international requests for assistance and consultation; (4) works with partner agencies to articulate and build curriculum for public health workforce competencies; (5) maintains liaison with other governmental agencies, academic institutions and organizations, State and local health agencies, private health organizations, professional organizations, and other outside groups; (6) assumes an active national and international leadership role in public health training; and (7) in carrying out the above functions, collaborates, as appropriate, with the CDC OD, other CC/COs, and domestic and international agencies.

Office of the Director (CALC1). (1) Provides leadership, direction, coordination, and management oversight to the activities of the division; (2) develops long-range plans, sets annual objectives, monitors progress, and evaluates results; (3) sets policies and procedures; (4) plans, allocates, and monitors resources; (5) coordinates with the OWCD/OD, the Atlanta Human Resources Center (AHRC), the Procurement and Grants Office, and the Financial Management Office on administrative guidance and oversight in the areas of personnel, travel, and other administrative services; (6) coordinates collaborative activities of the division and maintains liaison with other national centers (NC), other Federal agencies, and other outside groups; and (7) manages several smaller fellowship programs: Public Health Informatics Fellowship Program; CDC Experience; epi-elective programs.

Epidemic Intelligence Service Branch (CALCB). (1) Establishes overall policies, plans, and procedures, and evaluates the effectiveness of program activities; (2) develops and maintains a strategic plan for officer recruitment, analyzes data to more effectively target recruitment efforts, and conducts recruitment in accordance with the CDC workforce diversity goals; (3) plans, directs, and coordinates the application, interview, selection, and assignment processes for new Epidemic Intelligence Service (EIS) officers; (4) plans, directs, coordinates, and conducts training and training activities for EIS officers in applied epidemiology and public health practice; (5) monitors the completion of program requirements by EIS officers; (6) maintains liaison with supervisors of EIS officers, and evaluates EIS assignments within CDC; (7) coordinates the assignment and deployment of EIS officers in response to natural disasters, terrorist events, and other large scale public health emergencies; (8) reviews and approves requests for epidemiologic assistance (EPI-AIDs) from domestic and international sources and authorizes the expenditures of funds to support such requests; (9) maintains liaison with alumni within and outside CDC to assist with recruitment and promotional activities; and (10) plans, directs, and coordinates the Epidemiologic Elective Program for medical and veterinary students.

Leadership and Management Programs Branch (CALCC). (1) Establishes overall policies, plans, and procedures, and evaluates the effectiveness of leadership/management program activities, including, but not limited to, Presidential Management Fellows and Emerging Leaders Program; (2) develops and maintains a strategic plan for recruitment, analyzes data to more effectively target recruitment efforts, and conducts recruitment in accordance with the CDC workforce diversity goals; (3) plans, directs, and coordinates the CDC application, interview, selection, and assignment processes for fellows in accordance with OPM/HHS policies; (4) plans, directs, coordinates, and/or conducts training and training activities for fellows in the respective leadership and management competency domains outlined by OPM/HHS; (5) monitors the completion of program requirements by fellows; (6) provides guidance and supervision to fellows assigned to NCs, other Operating Divisions (OpDivs), and State and local health agencies; (7) monitors and evaluates the quality of assignments through site visits and by maintaining liaison with supervisors of fellows within CDC, other OpDivs, state and local health agencies, and other sponsoring organizations; (8) acts as a liaison to OPM/HHS steering committees/advisory groups charged with advising on policy matters concerning the program; and (9) maintains liaison with alumni within and outside CDC to assist with recruitment and promotional activities.

Public Health Prevention Services Branch (CALCD). (1) Establishes overall policies, plans, and procedures, and evaluates the effectiveness of program activities; (2) develops and maintains a strategic plan for Public Health Prevention Service (PHPS) fellow recruitment, analyzes data to more effectively target recruitment efforts, and conducts recruitment in accordance with the CDC workforce diversity goals; (3) plans, directs, and coordinates the application, interview, selection, and assignment processes for new PHPS fellows; (4) plans, directs, coordinates, and conducts training and training activities for PHPS fellows in public health program management, including the development, implementation, and evaluation of public health programs and interventions; (5) monitors the completion of program requirements by PHPS fellows; (6) provides guidance and supervision to PHPS fellows assigned to NCs, State and local health agencies and other sponsoring organizations; (7) monitors and evaluates the quality of assignments through site visits and by maintaining liaison with supervisors of PHPS fellows within CDC, State and local health agencies, and other sponsoring organizations; (8) coordinates provides staff support to a steering committee/advisory group charged with advising on policy matters concerning the program; and (9) maintains liaison with alumni within and outside CDC to assist with recruitment and promotional activities.

EIS Field Assignments Branch (CALCE). (1) Establishes overall policies, plans, and procedures, and evaluates the effectiveness of program activities; (2) provides individual training and consultations in applied epidemiology and biostatistics; technical and scientific oversight of projects, presentations and manuscripts; and administrative support for EIS officers assigned to State and local health departments, and other sponsoring institutions in the field; (3) monitors field EIS officer projects for adherence to CDC human subjects guidelines; (4) coordinates field training activities for field EIS officers; (5) monitors the completion of EIS program requirements and evaluates the performance of field EIS officers; (6) monitors and evaluates the quality of field assignments through site visits and regular communications with field supervisors in State and local health departments and other sponsoring organizations; (7) participates in recruitment, interviewing, placement, teaching and training activities for all EIS officers; (8) provides coordination role between State and local health departments and other components of CDC during multi-State disease outbreak investigations; (9) helps State and local health department officials to get timely and appropriate CDC assistance; (10) provides consultations with State and local health departments, and other CDC programs, on establishment and maintenance of epidemiology programs; and (11) serves as a liaison between EIS and health departments and public health organizations.

Prevention Effectiveness and Health Economics Branch (CALCG). (1) Establishes overall policies, plans, and procedures, and evaluates the effectiveness of program activities; (2) develops and maintains a strategic plan for Prevention Effectiveness (PE) fellow recruitment, analyzes data to more effectively target recruitment efforts, and conducts recruitment in accordance with the CDC workforce diversity goals; (3) plans, directs, and coordinates the application, interview, selection, and assignment processes for new PE fellows (4) maintains liaison with alumni within and outside CDC to assist with recruitment and promotional activities; (5) plans, directs, coordinates, and conducts training and training activities for PE fellows; (6) monitors the completion of program activities by PE fellows; (7) monitors and evaluates the quality of assignments through site visits and by maintaining liaison with supervisors of PE fellows within CDC; (8) promotes capacity in the public health community to conduct and use economic and decision analysis; (9) provides economic technical assistance and training, consultation, direction, review and information resources to other organizational units within OWCD; (10) plans, directs, coordinates and conducts continuing education programs in economics and decision science for CDC employees; and (11) supports CDC's Health Economics Research Group.

Preventive Medicine Residency Branch (CALCH). (1) Operates and maintains an accredited preventive medicine residency program for physicians in the CDC through the Accreditation Committee on Graduate Medical Education and a complementary fellowship program for public health veterinarians; (2) establishes overall policies, plans, and procedures, and evaluates the effectiveness of program activities; (3) develops and maintains a strategic plan for officer recruitment, analyzes data to more effectively target recruitment efforts, and conducts recruitment in accordance with the CDC workforce diversity goals; (4) maintains liaison with alumni within and outside CDC to assist with recruitment and promotional activities; (5) recruits and places residents and fellows in assignments throughout CDC and the nation for completion of on-the-job training requirements in preventive medicine and public health; (6) supplements their on-the-job learning with selected competency-based curricula in leadership, management, policy development, and program evaluation; (7) monitors and evaluates the quality of assignments through site visits and by maintaining liaison with supervisors and other individuals ; (8) monitors and evaluates the performance of the residents and fellows; (9) serves as the focal point for requests from state and local health departments and CDC programs about the Preventive Medicine Residence (PMR) program; (10) completes all requirements to maintain accreditation of the PMR program; and (11) in partnership with other CDC programs and partners in State and local health agencies, as well as other health-related organizations, works to maintain the PMR program as a vital element of CDC's workforce development strategy.

Training Services Division (CALD). (1) Evaluates the efficiency and effectiveness of health education and training, development of training tools and implementation methods and the impact of education/training on the quality of laboratory practice; (2) incorporates principles of adult learning theory and current learning standards into the design, delivery, and evaluation of health education and training products; (3) maintains knowledge of continuing education standards to uphold national accreditations and provides guidance and consultation, incorporating principles of adult learning theory, to course developers to ensure educational activities are accredited for continuing education; (4) develops and conducts training to facilitate the timely transfer of emerging laboratory technology and standards for laboratory practice nationwide; (5) provides technical assistance, consultation, and laboratory training to improve the capacity and capability of regional health organizations and State health agencies; (6) develops and maintains decentralized training networks for the nation's laboratory professionals; (7) fosters communications to assist regional, State, and local health agencies in the identification and utilization of laboratory resources in support of the nation's health objectives; and (8) leads content development and implementation of workforce development programs intended to increase the number of individuals choosing public health careers.

Office of the Director (CALD1). (1) Strategically develops and aligns divisional programs, projects, and activities with the OWCD vision, mission, goals, and objectives; (2) provides leadership, direction, coordination, and management oversight; (3) plans, allocates, and monitors resources; (4) provides technical assistance and consultation for programs at the national, State, regional and international levels to develop the leadership and management competencies of current and emerging public health officials; and (5) leads content development, implementation, and evaluation of workforce development programs for youth K-12 plus college level pipeline programs to increase number of individuals choosing public health careers.

Learning Standards, Design and Delivery Branch (CALDB). (1) Provides consultation, guidance, and technical assistance to managers, content developers, and learners for consistent design and delivery of education and training, (2) maintains knowledge of information technology and learning standards as they apply to health education and competency assessment to promote compliance in CDC's health education and training products; (3) leads and guides CDC programs as they adopt the learning management system within the HHS Learning Portal to deliver health education and training products that adhere to learning standards; (4) applies the principles of instructional design to design, produce, and deliver informational and instructional products; (5) incorporates principles of learning theory and current learning standards into the design and delivery of health education and training products; (6) evaluates the efficiency and effectiveness of health education and training products and their impact; (7) maintains knowledge of continuing education standards to uphold national accreditations; (8) provides accreditation guidance and consultation, incorporating principles of learning theory, to ensure educational activities are accredited for continuing education; (9) assesses need and demand for additional accreditations to support professional license and certificate needs of technical and professional staff within the health workforce; (10) implements, monitors, and maintains the CDC Training and Continuing Education Online web-based registration system; and (11) provides technical assistance and guidance to learners to ensure accreditation support.

Science Education and Laboratory Training Branch (CALDC). (1) Evaluates the efficiency and effectiveness of health education and training, development of lab training tools and implementation methods and the impact of education/training on the quality of laboratory practice; (2) designs, produces, and delivers a variety of visual materials and instructional products; (3) assists in the definition and analysis of lab training needs of public health workers, and develops and evaluates instructional products designed to meet those needs; (4) develops and maintains continuing education unit accreditation; (5) develops and conducts lab training to facilitate the timely transfer of newly emerging laboratory technology and standards for laboratory practice nationwide; (6) provides technical assistance, consultation, and training for trainers to improve the capacity and capability of regional health organizations and State health agencies to develop and maintain decentralized training networks for the nation's laboratory professionals; and (7) fosters communications to assist regional, State, and local health agencies in the identification and utilization of laboratory resources in support of the nation's health objectives.

CDC University Division (CALE). (1) Designs, develops, implements and evaluates a comprehensive strategic human resource leadership and career training and development program for all occupational series throughout CDC; (2) develops and implements strategies and activities that contribute to the agency's mission, goals and objectives; (3) maintains employee training records; (4) maximizes economies of scale through systematic planning and evaluation of agency-wide training initiatives to assist CDC employees in achieving required competencies; (5) develops and validates occupational and functional competencies and develops related training plans; (6) develops and administers intern and professional development programs, the long-term training program, and the mentoring program; (7) administers and monitors the Training and Learning Management System for compliance with the Government Employees Training Act; (8) conducts training needs assessment of CDC employees nationwide; (9) provides analysis and data to correlate individual training with corporate strategic plans; (10) develops and maintains assessment tools to identify core competency requirements for each occupational series throughout the agency; (11) provides consultation, guidance, and technical assistance to managers and employees in organizational development, career management, employee development, and training; (12) develops and delivers education and training programs to meet the identified needs of the public health workforce; (13) promotes, develops, and implements training needs assessment methodology to establish priorities for training interventions; (14) develops and implements policies related to employee training; and (15) in carrying out the above functions, collaborates, as appropriate, with the CDC/OD, other CC/COs, DHHS, OPM and other domestic and international agencies and organizations.

Office of the Director (CALE1). (1) Plans, directs, implements, supports, and coordinates the activities of the division; (2) provides leadership and guidance in all functional areas of the CDC University; and (3) participates with division and OWCD management in program planning, policy determination, evaluations, budget and decisions concerning the division.

Strategic Workforce Development Division (CALG). (1) Works with AHRC, Office of the Chief Operating Officer, CDC Excellence in Learning Council, Workforce and Career Development Officers, and agency managers to carry out human capital management planning and development activities; (2) provides guidance and oversight on the development of policies, procedures and processes associated with agency awards; (3) coordinates development and implementation of an agency-wide strategic human capital plan; (4) establishes and monitors a human capital accountability system framework for management of strategic human capital management aligned with OPM's Human Capital Assessment and Accountability Framework and HHS' associated procedures and deliverables; (5) identifies mission-critical occupations and their associated competencies to assess potential “gaps” in occupations and competencies that are essential to CDC achieving its strategic goals; (6) reports progress in meeting human capital management improvement objectives associated with the President's Management Agenda, and other related government-wide human capital initiatives; (7) coordinates implementation of a succession plan for key leadership and technical positions with an emphasis on mission-critical occupations; (8) develops an agency-wide strategic hiring plan that includes recruitment and retention strategies to facilitate hiring members of under-represented groups and those with the requisite professional/scientific skills for closing occupational series and/or competency gaps in the workforce; and (9) provides information on Commissioned Corps pay, benefits, performance management, assignments, retirement, etc., to members of the Corps and CDC management, and coordinates the Commissioned Corps promotion and award programs.

Office of the Director (CALG1). (1) Plans, directs, implements, supports, and coordinates the activities of the division; (2) provides leadership and guidance to all functional areas of the division; and (3) participates with division and OWCD management in program planning, policy determination, evaluations, budget and decisions concerning the division.

Dated: March 13, 2007.
William H. Gimson,
Chief Operating Officer, Centers for Disease Control and Prevention (CDC).

[FR Doc. 07-1464 Filed 3-23-07; 8:45 am]

BILLING CODE 4160-18-M